DEPARTMENT OF TRANSPORTATION

National Highway Traffic Safety Administration

[Docket No. NHTSA-2016-0069]

Request for Information: Nationally Uniform 911 Data System; Correction

AGENCY: National Highway Traffic Safety Administration (NHTSA), U.S. Department of Transportation (DOT).

ACTION: Notice; correction.

SUMMARY: NHTSA published a document in the Federal Register of June 30, 2016, concerning a request for information on the development of a nationally uniform 911 data system. The document contained incorrect information and an incorrect email address.

FOR FURTHER INFORMATION CONTACT: Laurie Flaherty, 202-366-2705.

Correction

In the Federal Register of June 30, 2016, in FR Doc. 2016-15368, on page 42786, make the following two corrections:

a. In the third column, correct the FOR FURTHER INFORMATION CONTACT caption to read:

Laurie Flaherty, National Highway Traffic Safety Administration, Office of Emergency Medical Services, (202) 366-2705, laurie.flaherty@dot.gov, located at the United States Department of Transportation; 1200 New Jersey Avenue SE., NPD-400, Room W44-322, Washington, DC 20590.

b. In the third column, correct the second sentence of the second paragraph of the SUPPLEMENTARY INFORMATION caption to read:

Models for a nationally uniform data system exist in other disciplines, for example, the National Fire Incident Reporting System (N-FIRS), https://www.nfirs.fema.gov/, and the National EMS Information System (NEMSIS), http://nemsis.org.

Dated: July 11, 2016.
Jeffrey P. Michael,
Associate Administrator, Research and Program Development.

[FR Doc. 2016-17207 Filed 7-21-16; 8:45 am]

BILLING CODE P